DEPARTMENT OF STATE

22 CFR Part 41

[Public Notice 3971]

Documentation of Nonimmigrants Under the Immigration and Nationality Act, as Amended: International Organizations; Interim Rule

AGENCY: Department of State.

ACTION: Interim rule with request for comments.

SUMMARY: In the interest of greater accuracy and clarity, this rule revises the recently added amendment relating to INTELSAT (following privatization) as an “international organization.”

DATES: Effective April 17, 2002. Written comments may be submitted on or before June 17, 2002.

ADDRESSES: Written comments may be submitted, in duplicate, to the Chief, Legislation and Regulations Division, Visa Services, Department of State, Washington, DC 20520-0106, or by e-mail to visaregs@state.gov.

FOR FURTHER INFORMATION CONTACT: Elizabeth J. Harper, Legislation and Regulations Division, Visa Services, Department of State, Washington, DC 20520-0106, telephone 202-663-1221, e-mail harperbj@state.gov, or fax at 202-663-3898.

SUPPLEMENTARY INFORMATION: On January 11, 2002, the Department amended its regulation pertaining to international organizations to include INTELSAT following privatization (67 FR 1413). Following further internal considerations and consultation with INS, the Department feels it necessary to revise that regulation to clarify the status of the organization and the personnel affected.

Why Are Changes Necessary?

The regulation published earlier (22 CFR 41.24(a)) was intended, essentially, just to distinguish the fact that the source of authority for INTELSAT to retain a limited status as an international organization after privatization was Public Law 196-306 rather than a Presidential designation. The law, however, conferred the status of international organization on the privatized INTELSAT only in connection with a special immigrant classification for certain “international organization aliens.” At the same time, however, it allowed certain officers and employees of privatized INTELSAT to retain their G-4 visa status, despite the fact that INTELSAT no longer met the definition of “international organization” for purposes of visa classification under INA 101(a)(15)(G). In addition, the special legislation did not provide for G-5 status for servants of privatized INTELSAT officers and employees. Those limitations and subtleties although not included in the existing regulation, are included in this amendment to it. The Department recognizes that greater specificity is necessary for a full understanding of the effects of section 301 of Public Law 106-306.

Does Changing the Regulation Make any Difference? Wouldn't the Law Govern Anyway?

Yes it would. Nevertheless, it is best for purposes of administration and for full disclosure to the public that the regulation be made as unequivocal and thorough as possible. This revised version makes it explicit that INTELSAT is not an “international organization” for all purposes. This, in turn, means that the officers and employees of the privatized INTELSAT who are still classifiable as G-4s are not “international organization aliens” for all purposes, but only for the purpose of the special immigrant visa provisions of INA 101(a)(27)(I).

What Other Changes, if Any, Are There in This New Regulation?

In addition to clarifying the definition and the status of the G-4 officers and employees of the privatized INTELSAT, this regulation makes it clear that only officers and employees of INTELSAT who had been employed in G-4 status for at least six months prior to the time of privatization, and officers and employees who meet those criteria but moved to a successor or separated entity after at least six months such employment and after March 17, 2000, but prior to INTELSAT privatization, are still classifiable under INA 101(a)(15)(G)(iv). Newly hired officers and employees of the privatized INTELSAT and successor or separated entities thereof, and officers and employees hired by INTELSAT less than six months prior to the date of privatization, are not entitled to such status.

Regulatory Analysis and Notices

Administrative Procedure Act

The Department is publishing this rule as an interim rule, with a 60-day provision for post-promulgation public comments, based on the “good cause” exceptions set forth at 5 U.S.C. 553(b)(3)(B) and 553(d)(3). The rule makes no substantive changes in visa operations. It merely rectifies any confusion deriving from the earlier amendment noting that a different statute conferred the designation of “international organization” in this instance.

Regulatory Flexibility Act

Pursuant to section 605 of the Regulatory Flexibility Act, the Department has assessed the potential impact of this rule, and the Assistant Secretary for Consular Affairs hereby certifies that is not expected to have a significant economic impact on a substantial number of small entities and will benefit those that engage temporary agricultural workers.

Unfunded Mandates Reform Act of 1995

This rule will not result in the expenditure by State, local, and tribal governments, in the aggregate, or by the private sector, of $100 million in any year and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign-based companies in domestic and export markets.

Executive Order 12866

The Department of State does not consider this rule to be a “significant regulatory action” under Executive Order 12866, section 3(f), Regulatory Planning and Review. In addition, the Department is exempt from Executive Order 12866 except to the extent that it is promulgating regulations in conjunction with a domestic agency that are significant regulatory actions. The Department has nevertheless reviewed the regulation to ensure its consistency with the regulatory philosophy and principles set forth in that Executive Order.

Executive Order 131332

This regulation will not have substantial direct effects on the States, on the relationship between the national government and the States, or on the distribution of power and responsibilities among the various levels of government. Therefore, in accordance with section 6 of Executive Order 13132, it is determined that this rule does not have sufficient federalism implications to require consultations or warrant the preparation of a federalism summary impact statement.

Paperwork Reduction Act

This rule does not impose any new reporting or record-keeping requirements subject to the Paperwork Reduction Act, 44 U.S.C. Chapter 35.

List of Subjects in 22 CFR Part 41

Aliens, Nonimmigrants, Passports and visas.

Accordingly, the Department amends 22 CFR Chapter I as follows:

PART 41—[AMENDED]

1. The authority citation for part 41 is revised to read:

Authority: 8 U.S.C. 1104; Pub. L. 105-277, 112 Stat. 2681-795 through 2681-801.

2. Amend § 41.24 by revising paragraph (a) and adding paragraph (c) to read as follows:

§ 41.24 International organization aliens.

(a) Definition of international organization. “International organization” means:

(1) Any public international organization which has been designated by the President by Executive Order as entitled to enjoy the privileges, exemptions, and immunities provided for in the International Organizations Immunities Act (59 Stat. 669, 22 U.S.C. 288); and

(2) For the purpose of special immigrant status under INA 101(a)(27)(I), INTELSAT or any successor or separated entity thereof.

* * * * *

(c) Officers and employees of privatized INTELSAT, their family members and domestic servants. (1) Officers and employees of privatized INTELSAT who both were employed by INTELSAT, and held status under INA 101(a)(15)(G)(iv) for at least six months prior to privatization on July 17,2001, will continue to be so classifiable for so long as they are officers or employees of INTELSAT or a successor or separated entity thereof.

(2) Aliens who had had G-4 status as officers and employees of INTELSAT but became officers or employees of a successor or separated entity of INTELSAT after at least six months of such employment, but prior to and in anticipation of privatization and subsequent to March 17, 2000, will also continue to be classifiable under INA 101(a)(15)(G)(iv) for so long as that employment continues.

(3) Family members of officers and employees described in paragraphs (c)(1) and (2) of this section who qualify as “immediate family” under § 41.21(a)(3) and who are accompanying or following to join the principal are also classifiable under INA 1010(a)(15)(G)(iv) for so long as the principal is so classified.

(4) Attendants, servants, and personal employees of officers and employees described in paragraphs (c)(1) and (2) of this section are not eligible for classification under INA 101(a)(15)(G)(v), given that the officers and employees described in paragraphs (c)(1) and (2) of this section are not officers or employees of an “international organization” for purposes of INA 101(a)(15)(G).

Dated: March 9, 2002.
Mary A. Ryan,
Assistant Secretary for Consular Affairs, Department of State.

[FR Doc. 02-8549 Filed 4-16-02; 8:45 am]

BILLING CODE 4710-06-P